CORPORATION FOR NATIONAL AND COMMUNITY SERVICE

Sunshine Act Meeting Notice

The National Civilian Community Corps Advisory Board gives notice of the following meeting:

Date and Time: Friday, June 11, 2010, 2 p.m.-3:30 p.m.

Place: Conference room #8312, 8th floor, Corporation for National and Community Service Headquarters, 1201 New York Avenue, NW., Washington, DC 20525.

Status: Open.

Matters To Be Considered

I. Meeting Convenes

II. Committee Reports

• Projects and Partnership Committee

• Member Services Committee

• Policy and Operations Committee

III. Public Comment

Accommodations: Anyone who needs an interpreter or other accommodation should notify the Corporation's contact person by 5 p.m. Friday, June 4, 2010.

Contact Person for More Information: Erma Hodge, NCCC, Corporation for National and Community Service, 9th Floor, Room 9802B, 1201 New York Avenue, NW., Washington, DC 20525. Phone (202) 606-6696. Fax (202) 606-3462. TDD: (202) 606-3472. E-mail: ehodge@cns.gov.

Dated: May 10, 2010.
Frank R. Trinity,
General Counsel.

[FR Doc. 2010-11441 Filed 5-11-10; 11:15 am]

BILLING CODE 6050-$$-P